DEPARTMENT OF ENERGY

Revised Strategy for the Environmental Impact Statement for Completion of the West Valley Demonstration Project and Closure or Long-Term Management of Facilities at the Western New York Nuclear Service Center and Solicitation of Scoping Comments

AGENCY: Department of Energy.

ACTION: Notice of intent.

SUMMARY: The U.S. Department of Energy (DOE) and the New York State Energy Research and Development Authority (NYSERDA) announce their intent to revise their strategy for completing the Draft Environmental Impact Statement (EIS) for Completion of the West Valley Demonstration Project and Closure or Long-Term Management of Facilities at the Western New York Nuclear Service Center (DOE/EIS-0226-D) (also referred to as the 1996 Completion and Closure Draft EIS) issued for public comment in March 1996. Under the revised strategy, DOE will prepare and issue a revised draft EIS for public comment focusing on DOE's actions to decontaminate West Valley Demonstration Project (WVDP) facilities and manage WVDP wastes controlled by DOE under the West Valley Demonstration Project Act (WVDP Act; Public Law 96-368). NYSERDA will not be a joint lead agency but will participate as envisioned under Section 6.03 of the Cooperative Agreement between United States Department of Energy and New York State Energy Research and Development Authority on the Western New York Nuclear Service Center at West Valley, New York (October 1, 1980, amended September 18, 1981) and as appropriate under the New York State Environmental Quality Review Act (SEQRA). Further, DOE intends to issue soon a Notice of Intent for a second EIS, with NYSERDA as a joint lead agency, on decommissioning and/or long-term stewardship of the WVDP and the Western New York Nuclear Service Center (WNYNSC). This approach is expected to facilitate decisions in a more tractable and timely fashion.

DATES: Although this notice expresses DOE's intent to prepare the revised Draft EIS, DOE welcomes, as part of the scoping process, comments on the plan for revising the strategy for completion of the 1996 Completion and Closure Draft EIS. Please provide comments on the plan and on the scope of the revised Draft EIS on WVDP Decontamination and Waste Management to DOE by April 25, 2001. Written comments postmarked, faxed, or e-mailed by that date will be considered in the preparation of the revised Draft EIS. Late comments will be considered to the extent practicable.

Also, DOE will hold a public scoping meeting at the Ashford Office Complex, located at 9030 Route 219 in the Town of Ashford, NY, from 7:00 to 9:30 p.m. on April 10, 2001. Make requests to speak at the public meeting by calling or writing the DOE Document Manager. (See ADDRESSES, below.)

ADDRESSES: Address comments on this plan for revising the strategy for completion of the 1996 Completion and Closure EIS and on the scope of the revised Draft EIS to the DOE Document Manager: Mr. Daniel W. Sullivan, West Valley Area Office, U.S. Department of Energy, 10282 Rock Springs Road, West Valley, NY 14171. Telephone: (716) 942-4016, facsimile: (716) 942-4703, or e-mail: daniel.w.sullivan@wv.doe.gov.

FOR FURTHER INFORMATION CONTACT: For information regarding the West Valley Demonstration Project or the EIS, contact Mr. Daniel Sullivan as described above. Those seeking general information on DOE's National Environmental Policy Act (NEPA) process should contact: Ms. Carol M. Borgstrom, Director, Office of NEPA Policy and Compliance, U.S. Department of Energy, 1000 Independence Avenue SW., Washington, DC 20585. Telephone: (202) 586-4600, facsimile: (202) 586-7031, or leave a message at 1-800-472-2756, toll-free.

SUPPLEMENTARY INFORMATION: The DOE and NYSERDA announce their intent to revise their strategy for completing the Draft EIS for Completion of the West Valley Demonstration Project and Closure or Long-Term Management of Facilities at the Western New York Nuclear Service Center (DOE/EIS-0226-D) (also referred to as the 1996 Completion and Closure Draft EIS). The Draft EIS was prepared by DOE and NYSERDA as joint lead agencies and issued for public comment in March 1996.

I. Revised NEPA Review Strategy

Under the revised strategy, DOE will prepare and issue for public comment a revised Draft EIS focusing on DOE's actions to decontaminate WVDP facilities and manage WVDP wastes controlled by DOE under the WVDP Act. The analyses and subsequent decision making with respect to this Decontamination and Waste Management EIS will focus exclusively on WVDP activities conducted by DOE and will not involve any decision making on the balance of the property at the WNYNSC. NYSERDA will not be a joint lead agency but will participate as envisioned under Section 6.03 of the Cooperative Agreement between United States Department of Energy and New York State Energy Research and Development Authority on the Western New York Nuclear Service Center at West Valley, New York (October 1, 1980, amended September 18, 1981) and as appropriate under SEQRA. The Nuclear Regulatory Commission does not intend to be a Cooperating Agency on the Decontamination and Waste Management EIS, because the Commission is not prescribing criteria for the activities to be considered in this revised EIS. DOE will inform the Commission of WVDP activities and progress as required under the WVDP Act and the Memorandum of Understanding between DOE and the Commission.

In accordance with Council on Environmental Quality regulations for implementing NEPA (40 CFR 1508.25) DOE has determined that the decontamination and waste management actions will not be connected within the meaning of the regulations to decommissioning and/or long-term stewardship actions because decontamination and waste disposal actions can be implemented without previous or simultaneous actions being taken, are not an interdependent part of a larger action, and do not depend on a larger action for their justification. Further, the WVDP decontamination and waste management actions being proposed by DOE do not limit or prejudge the range of alternatives to be considered or the decisions to be made for eventual decommissioning of Project facilities and/or long-term stewardship of the site, which would be the focus of a second EIS (described below in Section VI).

The decontamination and waste management actions being proposed merit evaluation in an EIS, however, including adequate analysis of cumulative impacts. While the decontamination and waste management actions will share common geography with subsequent decommissioning and/or long-term stewardship actions, the regulatory and physical nature of the two categories of actions are different, as are the timing needs for decisions. This approach is expected to facilitate decisions in a more tractable and timely fashion.

Under the revised strategy, the 1996 Draft EIS will be reissued in part as a revised Draft EIS retitled the West Valley Demonstration Project Decontamination and Waste Management Environmental Impact Statement. The analysis in the revised Draft EIS will support only those DOE decisions on WVDP facility decontamination and waste management alternatives. The revised Draft EIS will include updated baseline environmental data and new EIS alternative descriptions and use new analytical techniques developed at West Valley since publication of the 1996 Completion and Closure Draft EIS. Relevant comments received on the 1996 Completion and Closure Draft EIS will be considered in the preparation of the revised Draft EIS.

In the course of quarterly public meetings and Citizen Task Force meetings held since the issuance of the 1996 Completion and Closure Draft EIS, stakeholders have had considerable opportunities to discuss pertinent issues with DOE. DOE is now formally soliciting scoping comments, which DOE will consider in preparing the Draft Decontamination and Waste Management EIS. During preparation of this EIS, DOE intends to maintain informal communications with stakeholders through ongoing quarterly meetings, at a minimum, to ensure that interested individuals, organizations, and agencies are aware of the status of EIS preparation and have a continuing forum to ask questions and provide feedback to the Department. The revised Draft EIS, when completed, will be issued to the public for review and comment in accordance with Section V of this notice.

II. DOE Responsibilities

DOE is required by Public Law 96-368, the WVDP Act, to perform a number of actions involving facilities and wastes at the West Valley site. Section 2(a)(1-5) of the Act articulates the five actions that embody the WVDP. Actions 1 and 2 address high-level waste (HLW) solidification and development of appropriate containers for the solidified wastes. Action 3 requires DOE to transport the solidified HLW to a Federal geologic repository for permanent disposal. Action 4 requires DOE to dispose of low-level and transuranic wastes generated by HLW solifidification and in connection with the WVDP. Action 5 requires DOE to decontaminate and decommission the tanks, facilities, material, and hardware used in the solidification of HLW and in connection with the WVDP.

Actions 1 and 2 were the focus of the 1982 Final EIS (DOE/EIS-0081) and Record of Decision (47 FR 40705, September 15, 1982) on the HLW solidification. The 1996 Completion and Closure Draft EIS (DOE/EIS-0226-D) comprehensively examined the remaining actions, 3, 4, and 5. Based on the comments received on the 1996 Completion and Closure Draft EIS, feedback from the Citizen Task Force, and ongoing discussions between the joint lead agencies (DOE and NYSERDA) and the Nuclear Regulatory Commission, the DOE now intends to conduct the NEPA process for actions 3, 4, and 5 in two separate EISs.

For action 3, DOE will evaluate on-site activities related to transportation of the New York State-owned solidified HLW to a federal geologic repository in the Decontamination and Waste Management EIS. Off-site activities related to HLW transportation were evaluated in the Final Waste Management Programmatic Environmental Impact Statement (WM PEIS, DOE/EIS-0200-F, May 1997). For action 4, DOE will evaluate on-site activities for transportation of low-level waste generated in connection with the WVDP in the Decontamination and Waste Management EIS; off-site transportation activities were evaluated in the WM PEIS. DOE also will evaluate on-site and off-site transportation activities for transuranic waste associated with the WVDP in the Decontamination and Waste Management EIS.

For action 5, DOE will evaluate the decontamination of facilities, material, and hardware used in the solidification of HLW in the Decontamination and Waste Management EIS. DOE intends to analyze the decommissioning of the HLW tanks, facilities, material, and hardware used in connection with the WVDP in the EIS for decommissioning and/or long-term stewardship of the WVDP and WNYNSC, with NYSERDA as a joint lead agency.

III. Proposed Scope of the Decontamination and Waste Management EIS

A. Purpose and Need for Agency Action

Facility decontamination and waste disposal are the next DOE actions mandated by the WVDP Act that are ripe for evaluation and decision making. By implementing these actions in the near term, DOE may continue toward completion of the WVDP while decommissioning and/or long-term stewardship issues are being evaluated in a separate EIS, which DOE intends to develop jointly with NYSERDA in the near future (described below in Section VI).

The DOE needs to decide upon decontamination and waste management actions that are described below for facilities that are either no longer necessary or where decontamination will support the safer and more efficient continuation of WVDP site operations. DOE's primary objectives in this regard include both reducing risks posed to human health or the environment by removing and containing contamination and reducing the site management costs incurred by continuing to maintain unneeded facilities in a safe and operational condition.

B. Facilities and Waste Storage Areas To Be Evaluated

Potential decontamination of up to four facilities at the WVDP will be evaluated in the Decontamination and Waste Management EIS. The evaluation will include such activities as removal of loose radioactive contamination; removal of hardware and equipment; nonstructural decontamination of walls, ceilings, and floors; and flushing and/or removal of vessels and piping. The WVDP facilities that will be evaluated are:

—Vitrification Facility—Houses the HLW melter and supporting systems for combining liquid HLW with borosilicate glass formers, pouring the molten glass into stainless steel canisters, and transporting those canisters to the Process Building for storage.

—01-14 Building—Houses the Cement Solidification System, used to combine low-level liquid wastes from HLW pretreatment into a cement blend, which was then placed into drums and removed to an on-site storage facility. The 01-14 Building also houses the Vitrification Off-Gas System.

—HLW Storage Area—Includes the underground HLW storage tanks, along with supporting systems for maintenance, surveillance, and waste transfer.

—Process Building—Includes approximately 70 rooms and cells that comprised the original NRC-licensed spent nuclear fuel reprocessing operations in the late 1960s and early 1970s. Parts of this building have been decontaminated and modified to support WVDP operation, while other parts remain highly contaminated from fuel reprocessing operations. One of the large cells in the Process Building also serves as the storage facility for vitrified HLW canisters.

The WVDP storage areas that contain the Project's low-level radioactive wastes, which will be evaluated for removal and offsite disposal, are:

—Lag Storage Area—Includes several facilities used to store and manage the radioactive wastes generated from WVDP activities. Wastes currently in storage include Class A, B, and C low-level wastes, transuranic waste, and greater-than-Class C wastes.

—Radwaste Treatment System Drum Cell—Stores cement-filled drums of stabilized low-level waste produced by the Cement Solidification System.

—Various Other Locations—Soils estimated to contain very low levels of radioactive contamination are stored in large containers in various locations.

C. Proposed Action

DOE's Proposed Action under the Decontamination and Waste Management EIS will be to decontaminate the four Project facilities described above and to dispose of Project-generated low-level waste controlled by DOE under the WVDP Act. The remaining facilities for which the DOE is responsible, along with all final decommissioning and/or long-term stewardship actions to be taken by the DOE and NYSERDA, will be evaluated in a new EIS for decommissioning and/or long-term stewardship described in Section VI.

The WVDP Decontamination and Waste Management EIS will incorporate, as needed, analysis of environmental impacts at West Valley associated with implementing DOE's records of decision for the WM PEIS. Under those decisions, DOE will dispose of the Project low-level and low-level mixed waste in storage, and generated by decontamination activities, at either the Nevada Test Site or the Hanford Reservation near Richland, Washington (65 FR 10061, February 25, 2000), continue to store transuranic waste at West Valley (63 FR 3629, January 23, 1998), and continue to store the New York State-owned HLW at West Valley pending availability of a Federal geologic repository (64 FR 46661; August 26, 1999).

The WM PEIS LLW Record of Decision does not preclude DOE's use of commercial disposal facilities, consistent with current DOE Orders and appropriate site-specific NEPA analysis. Therefore, the revised Draft EIS will also assess shipment of WVDP low-level waste to the Envirocare commercial low-level waste disposal facility, near Tooele, Utah.

Any hazardous or mixed wastes generated as a result of decontamination activities will be managed in accordance with the Resource Conservation and Recovery Act (RCRA) and the WVDP Site Treatment Plan, respectively.¹

¹ Any decontamination activities that may be performed following issuance of the Record of Decision for the Decontamination and Waste Management EIS will also provide information associated with RCRA hazardous wastes and mixed wastes, as well as potential future measures that may be needed to manage these wastes. Management of RCRA wastes identified and/or generated during these activities may be performed in accordance with the provisions of the RCRA 3008(h) Administrative Order on Consent between the DOE and NYSERDA, and the New York State Department of Environmental Conservation (DEC) and U.S. Environmental Protection Agency (EPA). This information will also be factored into long-term decision making associated with the decommissioning and/or long-term stewardship EIS, which will be coordinated with the DEC and EPA to meet the requirements of the RCRA 3008(h) Consent Order.

D. Preliminary Alternatives To Be Evaluated

In the Decontamination and Waste Management EIS, DOE intends to evaluate the range of alternatives for decontamination of Project facilities. These include a “no action” alternative, which will evaluate continued current decontamination and waste management operations at the WVDP. The other alternatives will evaluate decontaminating different sets of WVDP facilities and areas within them. The three alternatives DOE is proposing to evaluate are summarized below. DOE will identify its Preferred Alternative in the Draft EIS.

No Action Alternative—Minimum Decontamination and Off-Site Waste Disposal Alternative

This alternative is considered the “no action” alternative required to be analyzed under Council on Environmental Quality and DOE NEPA regulations, and involves no change from the current in-progress or planned decontamination activities for WVDP facilities and waste management activities currently in progress.

These ongoing decontamination and waste management activities have already been considered under NEPA, as follows:

—1982 Final Environmental Impact Statement for Long-Term Management of Liquid High-Level Radioactive Wastes Stored at the Western New York Nuclear Service Center, West Valley (DOE/EIS-0081), Record of Decision (47 FR 40705, September 15, 1982), and two Supplement Analyses (DOE/EIS-0081-SA1, September 24, 1993; DOE/EIS-0081-SA2, June 23, 1998).

—Environmental Checklist for Removal of Class A Low-Level Radioactive Waste for Commercial Disposal (OH-WVDP-96-01), an action that was categorically excluded from further NEPA review in October 1997.

—Environmental Checklist for Decontamination Activities for the Main Plant (OH-WVDP-2000-05), an action that was categorically excluded in November 2000.

Project Facility Decontamination and Off-Site Waste Disposal Alternative

This alternative involves extensive decontamination of the Vitrification Facility, 01-14 Building, HLW Storage Area, and Process Building. Activities would include: (1) Removing any nonessential vessels, hardware, piping, and components, (2) cleaning surfaces to remove loose contamination, (3) treating or otherwise fixing-in-place remaining contamination on surfaces, as appropriate, (4) deactivating and/or removing all support systems (ventilation and utilities) no longer necessary for safe operations and maintenance, and (5) collecting and treating for disposal any effluent from the decontamination activities.

Wastes currently in storage and wastes generated by decontamination activities would be processed as necessary and shipped offsite for disposal under this alternative. A combination of truck and rail shipment modes would be used, depending on the type and amount of waste, and the intended disposal site. Any wastes for which there currently are no suitable disposal sites, such as greater-than-Class C waste, HLW, and transuranic waste, would be retained in on-site storage pending the availability of an off-site disposal location. DOE will evaluate shipment of these wastes from West Valley, as appropriate, however, so that the environmental impacts would have already been evaluated in case an opportunity to move these wastes off-site should arise.

High Activity Waste Removal and Off-Site Waste Disposal Alternative

This alternative is similar to the alternative for Project Facility Decontamination and Off-site Waste Disposal in terms of the types of decontamination activities that would be performed, but only those areas of WVDP facilities that present high health and safety risk would undergo interim decontamination. Under this alternative, selected areas in the Vitrification Facility, HLW Storage Area, and Process Building would be decontaminated, namely, those that are estimated to contain high concentrations of long-lived radionuclides. The 01-14 Building would not be decontaminated under this alternative, however, because it does not contain substantial quantities of long-lived radionuclides and does not pose a health and/or safety risk comparable to the Vitrification Facility, HLW Storage Area, and Process Building. Waste management activities to be evaluated will be comparable, however, to those under the previous alternative.

E. Preliminary Impacts To Be Analyzed

DOE has identified the following impacts for analysis in this EIS. Additional issues may be identified as a result of public comments.

• Potential impacts to the general population and on-site workers from radiological and nonradiological releases from decontamination and waste management activities

• Potential environmental impacts, including air and water quality impacts, from decontamination and waste management activities

• Potential transportation impacts from shipments of radioactive or hazardous material or radioactive, hazardous, or mixed waste generated during decontamination and waste management activities

• Potential impacts from postulated accidents

• Short-term land use impacts

• Disproportionately high and adverse effects on low-income and minority populations (environmental justice)

• Irretrievable and irreversible commitment of resources

• Native American concerns

• Unavoidable adverse impacts

• Compliance with Federal, state, and local requirements

• Cumulative impacts

IV. Public Scoping Meeting

DOE will hold a public scoping meeting on the decontamination and waste management EIS at the Ashford Office Complex, located at 9030 Route 219 in the Town of Ashford, NY, from 7:00 to 9:30 p.m. on April 10, 2001. Requests to speak at the public meeting should be made by calling or writing the DOE Document Manager (see ADDRESSES, above). Speakers will be scheduled on a first-come, first-served basis. Individuals may sign up at the door to speak and will be accommodated as time permits. Written comments will also be accepted at the meeting. Speakers are encouraged to provide written versions of their oral comments for the record.

The meetings will be facilitated by a moderator. WVDP personnel and the moderator may ask speakers clarifying questions. Individuals requesting to speak on behalf of an organization must identify the organization. Each speaker will be allowed five minutes to present comments unless more time is requested and available. Comments will be recorded by a court reporter and will become part of the scoping meeting record.

V. Schedule

The DOE intends to issue the draft Decontamination and Waste Management EIS in Fall 2001. A 45-day public comment period will start upon publication of the Environmental Protection Agency's Federal Register Notice of Availability. DOE will consider and respond to comments received on the draft Decontamination and Waste Management EIS in preparing the final EIS.

Comments received during the 1989 scoping process and from the public comment period on the 1996 Completion and Closure EIS (DOE/EIS-0226-D) will be addressed in either the draft Decontamination and Waste Management EIS or the planned EIS for decommissioning and/or long-term stewardship, depending on the nature of the specific comments received.

VI. EIS for Decommissioning and/or Long-Term Stewardship

DOE anticipates a separate announcement soon in both the Federal Register and the New York State Environmental Notice Bulletin providing notice of a second EIS to be prepared by DOE and NYSERDA for decommissioning and/or long-term stewardship of the WVDP and WNYNSC and a public scoping process pursuant to NEPA and SEQRA.

DOE anticipates that it will be the lead Federal agency for purposes of compliance with NEPA, and NYSERDA will be the lead agency for purposes of compliance with SEQRA. DOE also anticipates that the Nuclear Regulatory Commission will participate as a cooperating agency under NEPA, and the New York State Department of Environmental Conservation will be an involved agency under SEQRA. Although DOE envisions that DOE and NYSERDA will jointly prepare this EIS for decommissioning and/or long-term stewardship, either agency may decide to proceed independently in support of its independent mission. The Notice of Intent will provide further information on this second EIS, including the alternatives proposed to be evaluated and the opportunities for stakeholder involvement.

Issued in Washington, D.C. on March 21, 2001.
Steven V. Cary,
Acting Assistant Secretary, Office of Environment, Safety and Health.

[FR Doc. 01-7370 Filed 3-23-01; 8:45 am]

BILLING CODE 6450-01-P